DEPARTMENT OF ENERGY

[Docket No. EA-247 and EA-248]

Application To Export Electric Energy; AES NewEnergy, Inc.

AGENCY: Office of Fossil Energy, DOE.

ACTION: Notice of Application.

SUMMARY: Under two separate applications, AES NewEnergy, Inc. (AES NewEnergy) has applied for authority to transmit electric energy from the United States to Mexico and from the United States to Canada pursuant to section 202(e) of the Federal Power Act.

DATES: Comments, protests or requests to intervene must be submitted on or before September 19, 2001.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. § 824a(e)).

On July 13, 2001, the Office of Fossil Energy (FE) of the Department of Energy (DOE) received two separate applications from AES NewEnergy for authorization to transmit electric energy from the United States to Mexico and from the United States to Canada. AES NewEnergy, a Delaware corporation and wholly-subsidiary of the AES Corporation, a public utility holding company, is a power marketer that does not own or control any electric generation or transmission facilities nor does it have any franchised service territory in the United States

In FE Docket No. EA-247, AES NewEnergy proposes to export electric energy to Mexico and to arrange for the delivery of those exports to Mexico over the international transmission facilities owned by San Diego Gas and Electric Company, El Paso Electric Company, Central Power and Light Company, and Comision Federal de Electricidad, the national utility of Mexico. In FE Docket No. EA-248, AES NewEnergy proposes to export electric energy to Canada and to arrange for the delivery of those exports to Canada over the international transmission facilities owned by Basin Electric Power Cooperative, Bonneville Power Administration, Citizens Utilities, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, and Vermont Electric Transmission Company.

The construction of each of the international transmission facilities to be utilized by AES NewEnergy, as more fully described in the applications, has previously been authorized by a Presidential permit issued pursuant to Executive Order 10485, as amended.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the AES NewEnergy applications to export electric energy to Mexico and/or Canada should be clearly marked with Docket EA-247 and/or Docket EA-248, respectively. Additional copies are to be filed directly with Cathy Barron, AES NewEnergy, Inc., 535 Boylston Street, Top Floor, Boston, Massachusetts 02116 and R. Michael Sweeney, Jr., Troutman Sanders LLP, 401 9th Street, NW., Ste. 1000, Washington, DC 20004.

A final decision will be made on these applications after the environmental impacts have been evaluated pursuant to the National Environmental Policy Act of 1969, and a determination is made by the DOE that the proposed action will not adversely impact on the reliability of the U.S. electric power supply system.

Copies of these applications will be made available, upon request, for public inspection and copying at the address provided above or by accessing the Fossil Energy Home Page at http://www.fe.doe.gov. Upon reaching the Fossil Energy Home page, select “Regulatory” Programs,” then “Electricity Regulation,” and then “Pending Proceedings” from the options menus.

Issued in Washington, DC, on August 9, 2001.
Anthony J. Como,
Deputy Director, Electric Power Regulation, Office of Coal & Power Import/Export, Office of Coal & Power Systems, Office of Fossil Energy.

[FR Doc. 01-20900 Filed 8-17-01; 8:45 am]

BILLING CODE 6450-01-P